DEPARTMENT OF COMMERCE

National Oceanic and Atmospheric Administration

50 CFR Part 660

[Docket No. 040830250-5062-03; I.D. 112305B]

Fisheries Off West Coast States and in the Western Pacific; Pacific Coast Groundfish Fishery; Specifications and Management Measures; Inseason Adjustments

AGENCY: National Marine Fisheries Service (NMFS), National Oceanic and Atmospheric Administration (NOAA), Commerce.

ACTION: Inseason adjustments to management measures; request for comments.

SUMMARY: NMFS announces changes to management measures in the commercial and recreational Pacific Coast groundfish fisheries. These actions, which are authorized by the Pacific Coast Groundfish Fishery Management Plan (FMP), will allow fisheries to access more abundant groundfish stocks while protecting overfished and depleted stocks.

DATES: Effective 0001 hours (local time) December 1, 2005. Comments on this rule will be accepted through January 4, 2006.

ADDRESSES: You may submit comments, identified by I.D. number 112305 by any of the following methods:

• E-mail: GroundfishInseason5.nwr@noaa.gov. Include I.D. number 112305B in the subject line of the message.

• Federal eRulemaking Portal: http://www.regulations.gov. Follow the instructions for submitting comments.

• Fax: 206-526-6736, Attn: Carrie Nordeen.

• Mail: D. Robert Lohn, Administrator, Northwest Region,NMFS, Attn: Carrie Nordeen, 7600 Sand Point Way NE, Seattle, WA 98115-0070.

FOR FURTHER INFORMATION CONTACT: Carrie Nordeen (Northwest Region, NMFS), phone: 206-526-6144; fax: 206-526-6736; and e-mail: carrie.nordeen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Fishery Management Council's website at: www.pcouncil.org.

Background

The Pacific Coast Groundfish Fishery Management Plan (FMP) and its implementing regulations at title 50 in the Code of Federal Regulations (CFR), part 660, subpart G, regulate fishing for over 80 species of groundfish off the coasts of Washington, Oregon, and California. Groundfish specifications and management measures are developed by the Pacific Fishery Management Council (Pacific Council), and are implemented by NMFS. The specifications and management measures for 2005 - 2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); and November 1, 2005 (70 FR 65861).

Acceptable biological catches (ABCs) and optimum yields (OYs) are established for each year. Management measures are established at the start of the biennial period, and adjusted throughout the biennial management period, to keep harvest within the OYs. At the Pacific Council's October 30 - November 4, 2005, meeting in San Diego, California, the Pacific Council's Groundfish Management Team (GMT) considered 2005 catch data and new West Coast Groundfish Observer Program (WCGOP) data and made recommendations to adjust groundfish management measures for December 2005 and for all of 2006. Because the revised management measures for December 2005 and January and February 2006 must be implemented quickly, these adjustments are being implemented in this final rule. The management measures for the remainder of 2006 (March - December) will be implemented through a notice and comment rulemaking, projected to be effective by March 1, 2006.

The following changes to current groundfish management measures for December 2005 through February 2006 were recommended by the Pacific Council, in consultation with the Pacific Coast Treaty Indian Tribes and the States of Washington, Oregon, and California, at its October 30 - November 4, 2005, meeting. For December 2005, the adjustments recommended by the Pacific Council are as follows: prohibition on taking and retaining, possessing, or landing of minor slope rockfish, splitnose rockfish, and petrale sole in the limited entry bottom trawl fisheries; Federal regulations for recreational management measures off Oregon that conform with the State of Oregon's management measures; and adjustments to recreational management measures off California.

For January and February 2006, adjustments recommended by the Pacific Council are as follows: adjustments to limited entry and open access cumulative limits for the sablefish daily trip limit (DTL) fishery north of 36° N. lat.; adjustments to limited entry trawl cumulative limits for sablefish, thornyheads, Dover sole, other flatfish, petrale sole, arrowtooth flounder, slope rockfish, splitnose rockfish, and lingcod; adjustments to limited entry fixed gear and open access cumulative limits for shelf, shortbelly, and widow rockfish south of 34°27′ N. lat., and minor nearshore and black rockfish between 42°00′ N. lat. and 40°10′ N. lat.; adjustments to the trawl Rockfish Conservation Area (RCA) boundaries; and adjustments to recreational management measures.

Limited Entry Trawl Fisheries in 2005

The GMT reviewed Pacific Fisheries Information Network (PacFIN) Quota Species Monitoring (QSM) data through October 22, 2005, and noted that the catch of petrale sole was 2,783 mt (2,685 mt of landed catch plus 98 mt of discard). This level of harvest is 0.8 percent above petrale sole's 2005 ABC/OY of 2,762 mt. Because the FMP defines overfishing as exceeding the ABC, the petrale sole stock is now thought to be subject to overfishing in 2005. To prevent continued overfishing, the GMT considered management measures that would curtail further catch of petrale sole through the end of the year. Unfortunately, there appear to be no additional management measures available to completely eliminate catch of petrale sole. Inseason management measures designed to slow the catch of petrale sole that were implemented in October (70 FR 58066, October 5, 2005), such as limited entry trawl cumulative limit reductions and moving the trawl RCA into deeper water, should substantially reduce petrale sole catch for the remainder of the year.

In order to identify the conservation risk to the petrale sole stock resulting from allowing fisheries with petrale bycatch to continue in December, the GMT reviewed historical PacFIN petrale sole annual landings data by fishery. These data show that through the remainder of the year, the limited entry bottom trawl fishery operating seaward of the trawl RCA is expected to result in the highest petrale sole mortality relative to other fisheries. Only trace amounts of petrale sole catch are anticipated in the limited entry and open access fixed gear fisheries coastwide, open access trawl fisheries off California, and limited entry trawl fisheries shoreward of the trawl RCA south of 36° N. lat.

Under current management measures, the GMT anticipates an additional 5 mt - 10 mt (or an additional 0.2 percent - 0.35 percent over petrale sole's ABC/OY) of non-tribal petrale sole catch will be taken by the limited entry bottom trawl fishery in November and December. With this additional non-tribal catch, the catch of petrale sole in 2005 is predicted to exceed the petrale sole ABC by 0.9 percent 1.1 percent. The tribal bottom trawl fishery, which opens November 1, 2005, could potentially harvest an additional 20 mt - 30 mt of petrale sole. This year's higher than anticipated catch of petrale sole is particularly unexpected, given that the catch of petrale sole has been substantially less than its ABC for the past several years. For example, in 2004, the landed catch of petrale sole was 1,961 mt within an ABC of 2,762 mt. In 2003 and 2002, the total catch of petrale sole was 2,161 mt and 1,965 mt, respectively, each within an ABC of 2,762 mt.

When the Pacific Council was deliberating how to curtail additional catch of petrale sole for 2005, they considered closing several fisheries for the remainder of the year. The closure, however, would not be able to be implemented until December. The expectation of a total fishery closure would likely result in a race for fish during November, potentially increasing the mortality of petrale sole above what would otherwise occur if the fishery were to remain open.

Of the winter limited entry trawl fisheries, the petrale sole and slope rockfish fisheries are prosecuted on hard bottom substrate while the DTS (Dover sole, thornyhead, sablefish) fishery occurs on muddy, soft bottom substrate . Because these fisheries are geographically distinct, maintaining the DTS fishery through the end of 2005 is predicted to result in minimal additional catch of petrale sole (5 - 10 mt). Therefore, instead of closing the entire fishery and starting a race for fish, the Pacific Council recommended that the DTS fishery continue under currently scheduled management measures designed to slow the trawl harvest for the remainder of 2005, but that the retention of petrale sole, slope rockfish, and splitnose rockfish be prohibited coastwide for the remainder of the year. NMFS concurs with the Pacific Council's recommendation and is implementing the following adjustments to limited entry trawl management measures: (1) North of 40°10′ N. lat., decrease limited entry trawl minor slope and darkblotched rockfish cumulative limits from 4,000 lb (1,814 kg) per 2 months to closed (meaning that taking and retaining, possessing, or landing is prohibited), (2) North of 40°10′ N. lat., decrease limited entry trawl petrale sole cumulative sub-limit from 2,000 lb (907 kg) per 2 months to closed, (3) Between 40°10′ N. lat. and 38° N. lat., decrease limited entry trawl minor slope rockfish and splitnose rockfish cumulative limits from 6,000 lb (2,722 kg) per 2 months to closed, (4) South of 38° N. lat., decrease limited entry trawl minor slope rockfish and splitnose rockfish cumulative limits from 40,000 lb (18, 144 kg) per 2 months to closed, and (5) South of 40°10′ N. lat., decrease limited entry trawl petrale sole cumulative limit from 2,000 lb (907 kg) per 2 months to closed.

Oregon and California Recreational Groundfish Fisheries in 2005

Due to projected attainment of Oregon's recreational black rockfish harvest guideline, the Oregon Department of Fish and Wildlife (ODFW) took action on October 18, 2005, to close recreational groundfish fishing in the ocean and estuary boat fisheries shoreward of the recreational RCA boundary that approximates the 40-fm (73-m) depth contour and to prohibit retention of black rockfish in both the ocean and estuary boat fisheries at any depth for the remainder of 2005. Shore-based fisheries (angling from jetties, beaches, rock formations, or piers, and divers originating from shore) remain open for the remainder of 2005. The Pacific Council recommended that Federal regulations conform to ODFW's October inseason action. NMFS concurs with this recommendation and is implementing similar regulations with this inseason action for the remainder of 2005.

Management measures for recreational fisheries off California are adjusted to conform Federal and state regulations for the recreational RCA between 40°10′ N. lat. and 36° N. lat. At the Pacific Council's April 2005 meeting, the Pacific Council recommended, in part, that the recreational RCA regulations prohibit fishing seaward of the 20-fm (37-m) depth contour for July through December. NMFS inadvertently missed this recommendation for December in the May inseason action (70 FR 23040, May 4, 2005) and, therefore, Federal regulations implemented a recreational RCA extending from the shoreline through the EEZ during December. With this notice, NMFS will adjust 2005 Federal regulations regarding seasonality of the recreational RCA for the area between 40°10' N. lat. and 36° N. lat. as follows: Between 40°10′ N. lat. and 36° N. lat., recreational fishing for all groundfish (except “other flatfish”) is prohibited seaward of the 20-fm (37-m) depth contour along the mainland coast and along islands and offshore seamounts from July 1 through December 31; and is closed entirely from January 1 through June 30 (i.e., prohibited seaward of the shoreline).

Limited Entry Trawl Fisheries in 2006

The trawl bycatch model was updated with bycatch and discard rates based on new WCGOP data from September 2004 through April 2005. This update also incorporated 4 months of data (January - April 2005) when selective flatfish gear was required shoreward of the trawl RCA north of 40°10′ N. lat. The GMT used the updated trawl bycatch model to analyze adjustments to trawl RCA boundaries and bimonthly limits for target species (sablefish, thornyheads, Dover sole, petrale sole, other flatfish, arrowtooth, slope rockfish, and splitnose rockfish) for 2006. The management measures for January and February are being implemented in this rule.

Of note, the GMT proposed splitting the Period 1 cumulative limits (those for January and February) into two, 1-month cumulative limits. This cumulative limit adjustment accomplishes several goals. It is the Pacific Council's and NMFS's intent to begin 2006 with conservative enough management measures to avoid drastic harvest reductions and/or closures in the later part of the year. Additionally, there is a possibility that groundfish biennial management measures for 2007 - 2008 may not be in place by January, 1, 2007, and if that is the case, management in 2007 will continue under 2006 management measures until the biennial 2007 - 2008 management measures become effective. Should this occur, conservative management measures for January and February of 2006 would facilitate implementing any harvest reductions that may be necessary in 2007. In summary, splitting Period 1 into separate cumulative limits for January and February should be conservative enough to promote year round fishing opportunities in 2006, should accommodate any reductions to 2007 OYs for managed species, and should allow flexibility to adjust limits in February 2007 if necessary.

The Pacific Council recommended adjustments to limited entry trawl cumulative limits for certain target species coastwide, such as sablefish, thornyheads, Dover sole, other flatfish, and arrowtooth flounder, based on projections from the trawl bycatch model. These adjustments, together with measures to be proposed for the remainder of 2006, are projected to keep harvest within the OYs. NMFS concurs with this recommendation; therefore, adjusted cumulative limits for these species during January and February 2006 are shown in Table 3 (North) and Table 3 (South). Adjustments to limited entry trawl cumulative limits for other target species are described in detail below.

Petrale Sole

In order to avoid exceeding the petrale sole ABC in 2006 and to promote year round fishing opportunities, the Pacific Council recommended establishing cumulative limits in the bottom trawl fishery during Period 1 (January - February). In the past, petrale sole landings were not limited during this period. NMFS concurs with this recommendation. Therefore, north of 40°10′ N. lat., limited entry trawl large and small footrope limits are 30,000 lb (13,608 kg) per month in both January and February. North of 40°10′ N. lat., limited entry selective flatfish trawl limits are 12,500 lb (5,670 kg) per month in both January and February. South of 40°10′ N. lat., limited entry trawl limits are 30,000 lb (13,608 kg) per month in both January and February.

Slope and Splitnose Rockfish Limits Between 40°10′ N. lat. and 38° N. lat.

At the most recent Pacific Council meeting, the GMT considered a request to liberalize management measures for minor slope and splitnose rockfish in 2006. The harvest of these species has been constrained in recent years because they co-occur with darkblotched rockfish, an overfished rockfish species.

Darkblotched rockfish are not distributed uniformly along the coast but instead are most concentrated in waters off Washington and northern Oregon, with a gradient of decreasing density extending south. Only about three percent of the NMFS triennial bottom trawl survey's cumulative catch-per-unit-effort of darkblotched rockfish occurs south of 38° N. lat. This observation of decreased density led to implementation of a management line at 38° N. lat. that allows slope management south of 38° N. lat. to be separated from management actions needed to rebuild darkblotched, and allows the severity of management measures between 40°10′ N. lat and 38° N. lat. to be intermediate to those for areas south of 38° N. lat and north of 40°10′ N. lat.

Darkblotched rockfish bycatch rates between 40°10′ N. lat. and 38° N. lat. at depths greater than 150-fm (274-m) are considerably lower than those for the same depth range north of 40°10′ N. lat. When bycatch rates for darkblotched rockfish between 40°10′ N. lat. and 38° N. lat. are compared to bycatch rates from depths greater than 200-fm (366-m) north of 40°10′ N. lat., the rates are similar. Given this information, the GMT does not recommend greatly increasing slope and splitnose rockfish cumulative limits as well as implementing a shallower trawl RCA, such as the trawl RCA in place south of 38° N. lat., in the area between 40°10′ N. lat. and 38° N. lat. Cumulative slope and splitnose rockfish limits on the order of 20,000 lb (9,072 kg) per month could likely be allowed if the seaward trawl RCA boundary approximated the 200-fm (366-m) depth contour. However, availability of slope and splitnose rockfish is limited at depths greater than 200-fm (366-m). Alternatively, slope and splitnose rockfish cumulative limits of 4,000 lb (1,814 kg) per month could be used in conjunction with a seaward trawl RCA boundary approximating the 150-fm (274-m) depth contour. The Pacific Council continues to recommend management measures for this area that are intermediate to those used in the areas north of 40°10′ N. lat. and south of 38° N. lat. After feedback from the Pacific Council's Groundfish Advisory Panel and the trawl industry, the Pacific Council recommended minor adjustments to cumulative limits and the position of the trawl RCA. NMFS concurs with this recommendation; therefore, slope and splitnose rockfish cumulative limits will be increased from 4,000 (1,814 kg) per 2 months to 4,000 lb (1,814 kg) per month and the seaward trawl RCA boundary will approximate the 150-fm (274-m) depth contour rather than the 200-fm (366-m) depth contour for the area between 40°10′ N. lat. and 38° N. lat. during January and February. This regulatory change is expected to allow trawl fisheries in this area to access more abundant slope rockfish species while still maintaining a low incidental catch of darkblotched rockfish.

Lingcod

The GMT reviewed available catch and discard information pertaining to lingcod in the limited entry bottom trawl fishery. Lingcod has rebuilt quickly in recent years and is being caught in greater numbers in a range of fisheries coastwide. WCGOP data shows that there is considerable discard of lingcod in the limited entry bottom trawl fishery and suggests that allowing increased retention of lingcod may reduce discard. In 2005, north of 40°10′ N. lat., the lingcod selective flatfish trawl limit was 800 lb (363 kg) per 2 months for January through April and September through December, while it was 1,000 lb (454 kg) per 2 months for May through July. The lingcod large and small footrope limits for 2005 were 500 lb (227 kg) per 2 months. South of 40°10′ N. lat., the lingcod small footrope limit was 800 lb (363 kg) per 2 months for January through April and September through December and was 1,000 lb (454 kg) per 2 months for May through July. The lingcod midwater limit south of 40°10′ N. lat. was 500 lb (227 kg) per 2 months. In 2005, the lingcod large footrope limits were the same north and south of 40°10′ N. lat. While a substantial increase in lingcod cumulative limits may encourage targeting of lingcod and additional bycatch of overfished species (which tend to reside in areas of similar rocky habitat), the Pacific Council believed that a modest increase in lingcod retention could be allowed without negatively affecting lingcod or co-occurring overfished species. In 2004 and 2005, lingcod harvest has been well under its rebuilding OY (by more than 100 mt) and these cumulative limit increases are not projected to affect total lingcod mortality but instead change lingcod discard into landings. Therefore, the Pacific Council recommended that lingcod cumulative limits in the limited entry trawl fishery be increased to 600 lb (272 kg) per month coastwide for all gear types during January and February. NMFS concurs with this recommendation and is implementing this adjustment with this inseason action.

Limited Entry Fixed Gear and Open Access Fisheries in 2006

Limited Entry Fixed Gear and Open Access Sablefish Limits North of 36° N. lat.

In recent years, the sablefish daily trip limit (DTL) fishery north of 36° N. lat. has caught substantially less than its allocation. Therefore, the GMT believes that some liberalization of sablefish DTL cumulative limits is warranted. In 2005, the sablefish limited entry and open access DTL limits for January through September were 300 lb (136 kg) per day, or 1 landing per week up to 900 lb (408 kg), not to exceed 3,600 lb (1,633 kg) per 2 months. These sablefish DTL cumulative limits were increased for October through December to 500 lb (227 kg) per day, or 1 landing per week up to 1,500 lb (680 kg), not to exceed 9,000 lb (4,082 kg) per 2 months. The GMT is concerned with the lack of effort controls in this fishery and recommended a cautious approach to increasing its cumulative sablefish limits. The Pacific Council considered two options for increasing sablefish DTL limits. The first option maintained the previously scheduled daily limit of 300 lb (136 kg) per day, increased the weekly limit to 1,000 lb (454 kg), and increased the 2-month limit to 5,000 lb (2,268 kg). The second option increased the daily limit to 400 lb (181 kg), increased the weekly limit to 1,200 lb (544 kg), and increased the 2-month limit to 4,800 lb (2,177 kg). Because radical changes in effort for this fishery have historically been driven by changes in the daily and weekly limit, there is a greater risk of needing to restrict the fishery later in the year associated with the second option. Total catch in the sablefish DTL fishery can be managed under either option, but restricting the fishery later in the year may result in an inequitable distribution of catch and revenues because this fishery starts earlier in southern areas than in northern areas. Therefore, the Pacific Council recommended and NMFS is implementing sablefish limited entry fixed gear and open access cumulative limits of 300 lb (136 kg) per day, or 1 landing per week up to 1,000 lb (454 kg), not to exceed 5,000 lb (2,268 kg) per 2 months for the area north of 36° N. lat.

Shelf, Shortbelly, and Widow Rockfish South of 34°27′ N. lat.

At its most recent meeting, the Pacific Council also considered a request to increase shelf rockfish, shortbelly, and widow rockfish cumulative limits from 2,000 lb (907 kg) per 2 months to 3,000 lb (1,361 kg) per 2 months for limited entry fixed gear and from 500 lb (227 kg) per 2 months to 750 lb (340 kg) per 2 months for open access fixed gear. In 2005, these cumulative limit increases were implemented inseason for July through December. After reviewing the GMT's analysis of landings during 2005, the Pacific Council determined that the requested increase could be accommodated at the start of 2006. Therefore, the Pacific Council recommended and NMFS is implementing a shelf, shortbelly, and widow rockfish limited entry cumulative limit of 3,000 lb (1,361 kg) per 2 months and an open access cumulative limit of 750 lb (340 kg) per 2 months for the area south of 34°27′ N. lat.

Minor Nearshore and Black Rockfish between 40°10' N. lat. and 42° N. lat.

In 2005, the minor nearshore and black rockfish limited entry fixed gear and open access limits were increased inseason from 5,000 lb (2,268 kg) per 2 months, no more than 1,200 lb (544 kg) of which may be species other than black or blue rockfish, to 6,000 lb (2,722 kg) per 2 months, no more than 1,200 lb (544 kg) of which may be species other than black or blue rockfish, for July through December. As with the previously discussed adjustments to cumulative limits, the Pacific Council received a request to continue these 2005 inseason adjustments into 2006. A review of 2005 PacFIN data revealed no higher than anticipated catch of black rockfish, particularly with respect to black rockfish state harvest guidelines and commercial/recreational catch sharing. Therefore, the Pacific Council recommended and NMFS is implementing the minor nearshore and black rockfish limited entry fixed gear and open access cumulative limit of 6,000 lb (2,722 kg) per 2 months, no more than 1,200 lb (544 kg) of which may be species other than black or blue rockfish.

Recreational Groundfish Fisheries in 2006

Washington's Recreational Groundfish Fishery

The Washington Department of Fish and Wildlife (WDFW) took inseason action in August 2005 to close the Washington recreational bottomfish fisheries seaward of the recreational RCA, a line approximating the 30-fm (55-m) depth contour north of Leadbetter Pt. (46°38.17' N. lat.), WA, as the canary and yelloweye rockfish catches were approaching the state's recreational harvest targets for those species. NMFS took conforming action through the inseason action published in the Federal Register on October 5, 2005 (70 FR 58066). As the state recreational harvest targets are annual targets that are used to stay within joint WA/OR annual harvest guidelines, the Pacific Council recommended that the prohibition on fishing seaward of a boundary line approximating the 30-fm (55-m) depth contour be removed for the 2006 Washington recreational fishery, beginning January 1, 2006, but remain available as an option for inseason action in 2006 should the canary or yelloweye rockfish harvest target be approached.

Therefore, the Pacific Council recommended and NMFS is removing the prohibition on fishing seaward of the 30-fm (55-m) boundary line between the U.S./Canada border and 46°38.17' N. lat. (Leadbetter Point, WA) and is maintaining the availability of that boundary for inseason management in 2006.

Oregon's Recreational Groundfish Fishery

In addition to other bag limit reductions in 2005, the Oregon Department of Fish and Wildlife (ODFW) took inseason action in July 2005 to reduce the daily recreational marine fish bag limit from eight fish to five fish to slow the harvest of black rockfish. ODFW took additional action in August 2005 to prohibit retention of cabezon in the recreational ocean boat fishery, due to attainment of the annual state harvest guideline for cabezon. NMFS took conforming action on both of these items through the inseason action published in the Federal Register on October 5, 2005 (70 FR 58066). The Federal and state harvest guidelines are set on an annual basis, and the inseason actions taken in 2005 were in response to attainment of harvest guidelines set for the 2005 fishing year. The Pacific Council recommended that the recreational bag limit regulations that were in place in January 2005 be implemented in January 2006 to allow fisheries access to available harvest. In March 2005, NMFS published an inseason action (70 FR 16145, March 30, 2005) which, in part, revised the Federal marine fish species list for Oregon to match the list used in Oregon state regulation. Therefore, in addition to the wording in the January 2005 regulations, NMFS will include the revised species list in the 2006 Oregon recreational language. ODFW anticipates requesting Federal inseason action in March 2006, pending Oregon Department of Fish and Wildlife Commission approval of regulations governing the 2006 recreational fishery.

Therefore, the Pacific Council recommended and NMFS is implementing recreational groundfish fishery regulations off of Oregon as they read at the beginning of 2005, with the exception that NMFS is maintaining the revised species list as published in the Federal Register on March 30, 2005 (70 FR 16145), so that it is clear that Oregon's marine fish bag limit excludes salmonids, hybrid bass, and offshore pelagic species.

Classification

These actions are authorized by the FMP and implementing regulations and are based on the most recent data available. The aggregate data upon which these actions are based are available for public inspection at the Office of the Administrator, Northwest Region, NMFS, (see ADDRESSES) during business hours.

Pursuant to 5 U.S.C. 553(b)(B), there is good cause to waive prior notice and an opportunity for public comment, as notice and comment would be impracticable and contrary to the public interest. The data upon which these recommendations were based were provided to the Pacific Council, and the Pacific Council made its recommendations at its October 30 - November 4, 2005, meeting in San Diego, CA. There was not sufficient time after that meeting to draft this document and undergo proposed and final rulemaking before these actions need to be in effect, December 1, 2005, as explained below. For the actions in this notice, prior notice and opportunity for comment would be impracticable and contrary to the public interest because affording the time necessary for prior notice and opportunity for public comment would impede the Agency's function of managing fisheries using the best available science to approach without exceeding the OYs for federally managed species. The adjustments to management measures in this document include changes to the commercial and recreational groundfish fisheries. As of October 2005, the total catch (landing plus discard) of petrale sole had exceeded its 2005 ABC/OY. Changes to the limited entry trawl fisheries must be implemented in a timely manner by December 1, 2005, to curtail additional catch of petrale sole. Changes to management measures for recreational fisheries off Oregon and California need to be implemented as soon as possible in order to conform Federal and state recreational regulations and provide recreational fishing opportunities. Inseason adjustments for commercial and recreational fisheries for January and February of 2006 need to be implemented in a timely manner to protect overfished groundfish species while keeping the harvest of other groundfish species within the harvest levels projected for 2006. For some species, such as Dover sole, thornyheads, sablefish, slope and splitnose rockfish, shelf and shortbelly rockfish, nearshore and black rockfish, and lingcod, cumulative limits must be raised in a timely manner to allow fisheries access to healthy stocks, when possible, or to reduce discard. For other species, such as petrale sole, cumulative limits must be lowered to keep harvest within OYs and ensure year round fisheries. For these reasons, good cause also exists to waive the 30 day delay in effectiveness requirement under 5 U.S.C. 553 (d)(3) for all actions taken in this action.

These actions are taken under the authority of 50 CFR 660.370(c) and are exempt from review under Executive Order 12866.

List of Subjects in 50 CFR Part 660

Administrative practice and procedure, American Samoa, Fisheries, Fishing, Guam, Hawaiian Natives, Indians, Northern Mariana Islands, Reporting and recordkeeping requirements.

Dated: November 29, 2005.
Anne M. Lange,
Acting Director, Office of Sustainable Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.384, paragraphs (c)(1)(i)(B), (c)(2)(i) and (iii), and (c)(3)(i)(A)(2) are revised to read as follows:

§ 660.384 Recreational fishery management measures.

* * * * *

(c) * * *

(1) * * *

(i) * * *

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Washington, if recreational fishing for all groundfish is prohibited seaward of a boundary line approximating the 30-fm (55-m) depth contour, a notification will be published in the Federal Register inseason pursuant to § 660.370(c). Coordinates for the boundary line approximating the 30-fm (55-m) depth contour are listed in § 660.391.

* * * * *

(2) * * *

(i) Recreational Groundfish Conservation Areas off Oregon. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from June 1 through September 30, recreational fishing for groundfish is prohibited seaward of a recreational RCA boundary line approximating the 40-fm (73-m) depth contour. From December 1 through December 31, 2005, recreational fishing for groundfish in the ocean boat fishery is prohibited shoreward of a recreational RCA boundary line approximating the 40-fm (73-m) depth contour (i.e., shore-based fisheries (angling from jetties, beaches, rock formations, or piers, and divers originating from shore) are open). Coordinates for the boundary line approximating the 40-fm (73-m) depth contour are listed at § 660.391. Recreational fishing for all groundfish may be prohibited inseason seaward of the 20-fm (37-m) depth contour or seaward of a boundary line approximating the 30-fm (55-m) depth contour. If the closure seaward of the 20-fm (37-m) depth contour or a boundary line approximating the 30-fm (55-m) depth contour is implemented inseason, a document will be published in the Federal Register pursuant to § 660.370(c). Coordinates for the boundary line approximating the 30-fm (55-m) depth contour are listed at § 660.391.

* * * * *

(iii) Bag limits, size limits. The bag limits for each person engaged in recreational fishing in the EEZ seaward of Oregon are two lingcod per day, which may be no smaller than 24 in (61 cm) total length; and 10 marine fish per day, which excludes Pacific halibut, salmonids, tuna, perch species, sturgeon, sanddabs, lingcod, striped bass, hybrid bass, offshore pelagic species and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited. From October 18, 2005, through December 31, 2005, taking and retaining black rockfish in the ocean boat fishery is prohibited.

* * * * *

(3) * * *

(i) * * *

(A) * * *

(2) Between 40°10′ N. lat. and 36° N. lat., recreational fishing for all groundfish (except “other flatfish”) is prohibited seaward of the 20-fm (37-m) depth contour along the mainland coast and along islands and offshore seamounts from July 1 through December 31; and is closed entirely from January 1 through June 30 (i.e., prohibited seaward of the shoreline). Closures around the Farallon Islands (see paragraph (c)(3)(i)(C) of this section) and Cordell Banks (see paragraph (c)(3)(i)(D) of this section) also apply in this area.

* * * * *

3. In part 660, subpart G, Tables 3 (both North and South), Tables 4 (both North and South) and Tables 5 (both North and South) are revised to read as follows:

BILLING CODE 3510-22-S

[FR Doc. 05-23640 Filed 11-30-05; 3:09 pm]

BILLING CODE 3510-22-C